DEPARTMENT OF COMMERCE

National Oceanic and Atmospheric Administration

Agency Information Collection Activities; Submission to the Office of Management and Budget (OMB) for Review and Approval; Comment Request; 3D Nation Elevation Data Requirements and Benefits Study

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 29, 2021, (86 FR 7542), during a 60-day comment period. This notice allows for an additional 30 days for public comments.

Agency: National Oceanic & Atmospheric Administration (NOAA), Commerce.

Title: 3D Nation Requirements and Benefits Elevation Data Study.

OMB Control Number: 0648-0762.

Form Number(s): None.

Type of Request: Regular submission [extension of a current information collection].

Number of Respondents: 800.

Average Hours per Response: 2.

Total Annual Burden Hours: 1,600.

Needs and Uses: This is a request for extension of a currently approved information collection.

NOAA, the U.S. Geological Survey (USGS), and partner mapping agencies are working to improve the technology systems, data, and services that provide information about 3D data and related applications within the United States. By continuing to learn about business uses and associated benefits that would be realized from improved 3D data, the agencies can more effectively prioritize and direct investments that will best serve user needs. The 3D Nation Elevation Data Requirements and Benefits Study [3D Nation Study] is part of the continuing effort to develop and refine future program alternatives that would provide enhanced 3D data to meet many Federal, State, and other national business needs.

In 2017, NOAA and the USGS initiated a 3D Nation Study follow-on to the National Enhanced Elevation Assessment (NEEA) white paper finalized in 2012 (NEEA overview can be found at https://pubs.usgs.gov/fs/2012/3088/). The 3D Nation Study incorporates coastal and ocean requirements for elevation data together with terrestrial elevation data needs. The primary tool to gather information is a questionnaire covering a wide range of business uses that depend on 3D data to inform policy, regulation, scientific research, and management decisions. For purposes of the study, 3D data refers to topographic elevation data (precise three-dimensional measurements of the terrestrial terrain) and bathymetric elevation data (three-dimensional surface of the underwater terrain). The 3D Nation Study seeks to understand needs for 3D elevation data in terms of mission critical activities, geographic extents of data needs, accuracy requirements, frequency needed, and anticipated benefits of having the required data. The study also aims to describe 3D elevation data needs in relation to other data types such as the shoreline; characteristics of tides, currents, and waves; and the physical and chemical properties of the water itself.

Because 3D data are collected and used to meet a wide range of mission critical needs, the 3D Nation Study seeks input from managers and data users from a variety of government entities (e.g., Federal, State, local, Tribal) as well as not for profit, academic, and private/commercial entities. The findings will update a baseline of national business needs and associated benefits for 3D data and associated technologies. This baseline enhances the responsiveness of NOAA, USGS, and partner agency programs to stakeholder needs. It is intended to inform the design of directed future programs that balance requirements, benefits, and costs at a national scale. Collected responses are aggregated at the agency, organization, state and national levels. Responses associated with individuals are not distributed. The information collection is conducted using a standardized template. Responses are one-time and voluntary. In-person interviews to clarify questionnaire results may also be arranged. The current version of the study questionnaire is available at the 3D Nation Study information site (https://my.usgs.gov/confluence/display/3DNationStudy/Questionnaire).

Affected Public: Federal government, State, local or tribal governments; not-for-profit institutions, academia, business or other for-profit organizations.

Frequency: On occasion, 3-5 year intervals.

Respondent's Obligation: Voluntary.

Legal Authority: Coast and Geodetic Survey Act of 1947 (33 U.S.C. 883a et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0762.

Sheleen Dumas,
Department PRA Clearance Officer, Office of the Chief Information Officer, Commerce Department.

[FR Doc. 2021-07822 Filed 4-15-21; 8:45 am]

BILLING CODE 3510-JE-P